DEPARTMENT OF TRANSPORTATION

Federal Aviation Administration

14 CFR Part 39

[Docket No. 2001-NM-55-AD; Amendment 39-12805; AD 2002-14-05]

RIN 2120-AA64

Airworthiness Directives; McDonnell Douglas Model MD-11 Airplanes

AGENCY: Federal Aviation Administration, DOT.

ACTION: Final rule.

SUMMARY: This amendment supersedes an existing airworthiness directive (AD), applicable to certain McDonnell Douglas Model MD-11 airplanes, that currently requires repetitive general visual inspections of the power feeder cables, terminal strip, fuseholder, and fuses of the galley load control unit (GLCU) within the No. 3 bay electrical power center to detect damage; and corrective actions, if necessary. This amendment requires replacement of the electrical wiring of the galley in the electrical power center in bays 1, 2, and 3 with larger gage cable assemblies, which terminates the repetitive inspections. This amendment also expands the applicability of the existing AD to include two additional airplanes. This action is necessary to prevent damage to the wire assembly terminal lugs and overheating of the power feeder cables on the No. 3 and 4 GLCU, which could result in smoke and fire in the center accessory compartment. This action is intended to address the identified unsafe condition.

DATES: Effective August 23, 2002.

The incorporation by reference of a certain publication, as listed in the regulations, is approved by the Director of the Federal Register as of August 23, 2002.

The incorporation by reference of certain other publications, as listed in the regulations, was approved previously by the Director of the Federal Register as of January 4, 2000 (64 FR 71001, December 20, 1999).

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Brett Portwood, Aerospace Engineer, Systems and Equipment Branch, ANM-130L, FAA, Los Angeles Aircraft Certification Office, 3960 Paramount Boulevard, Lakewood, California 90712-4137; telephone (562) 627-5350; fax (562) 627-5210.

Other Information: Sandi Carli, Airworthiness Directive Technical Writer/Editor; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION: A proposal to amend part 39 of the Federal Aviation Regulations (14 CFR part 39) by superseding AD 99-26-03 C1, amendment 39-11463 (65 FR 4870, February 2, 2000), which is applicable to certain McDonnell Douglas Model MD-11 airplanes, was published in the Federal Register on October 5, 2001 (66 FR 50903). The action proposed to continue to require repetitive general visual inspections of the power feeder cables, terminal strip, fuseholder, and fuses of the galley load control unit (GLCU) within the No. 3 bay electrical power center to detect damage; and corrective actions, if necessary. That action also proposed to required replacement of the electrical wiring of the galley in the electrical power center in bays 1, 2, and 3 with larger gage cable assemblies, which terminates the repetitive inspections. The action also proposed to expand the applicability of the existing AD to include two additional airplanes.

Comments

Interested persons have been afforded an opportunity to participate in the making of this amendment. Due consideration has been given to the comments received.

Request To Extend Compliance Time

One commenter requests that the proposed AD be revised to extend the compliance time of the replacement required by paragraph (c) of the proposed AD from 12 months to 18 months. The commenter states that inspections at 450-flight-hour intervals have not shown any evidence of overheating to date and will provide an equivalent level of safety. The commenter also states that this extension would allow affected operators to perform the replacement during a regularly scheduled maintenance interval and avoid the possibility of out-of-service time.

The FAA does not concur with the commenter's request to extend the compliance time for the required replacement. In developing an appropriate compliance time, we considered the safety implications, the time necessary for accomplishing the replacement, and normal maintenance schedules for timely accomplishment of the replacement. In light of these items, we have determined that 12 months for compliance is appropriate. However, paragraph (d)(1) of the final rule does provide affected operators the opportunity to apply for an adjustment of the compliance time if data are presented to justify such an adjustment.

Request to Accept Previously Approved Alternative Methods of Compliance (AMOC)

One commenter requests that the FAA continue to accept AMOCs that were previously granted per AD 99-26-03. The commenter states that it has such an AMOC. The FAA concurs. We have included a new paragraph (d)(2) in this AD to clarify that AMOCs previously approved in accordance with ADs 99-26-03 and 99-26-03 C1, both having amendment 39-11463, are approved as AMOCs with this AD.

Explanation of Change to AD Number and Associated Federal Register Citation

The FAA has revised the final rule to update the AD number and associated Federal Register citation for the superseded AD. A final rule; correction (i.e., AD 99-26-03 C1); was published in the Federal Register on February 2, 2000 (65 FR 4870) to revise the statement of the unsafe condition to correct the description of the locations of the power feeder cables.

Explanation of Change to Inspection Definition

For clarification purposes, the FAA has revised the definition of a “general visual inspection” in Note 2 of this final rule.

Conclusion

After careful review of the available data, including the comments noted above, the FAA has determined that air safety and the public interest require the adoption of the rule with the changes previously described. The FAA has determined that these changes will neither increase the economic burden on any operator nor increase the scope of the AD.

Cost Impact

There are approximately 135 Model MD-11 airplanes of the affected design in the worldwide fleet. The FAA estimates that 31 airplanes of U.S. registry will be affected by this AD.

The inspection that is currently required by AD 99-26-03 C1, and retained in this AD, takes approximately 1 work hour per airplane to accomplish, at an average labor rate of $60 per work hour. Based on these figures, the cost impact of the currently required inspection on U.S. operators is estimated to be $1,860, or $60 per airplane, per inspection cycle.

The new action that is required in this AD action will take approximately 18 work hours per airplane to accomplish, at an average labor rate of $60 per work hour. Required parts will cost approximately $14,647 per airplane. Based on these figures, the cost impact of the requirements of this AD on U.S. operators is estimated to be $487,537, or $15,727 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11463 (65 FR 4870, February 2, 2000), and by adding a new airworthiness directive (AD), amendment 39-12805, to read as follows:

2002-14-05 McDonnell Douglas: Amendment 39-12805. Docket 2001-NM-55-AD. Supersedes AD 99-26-03 C1, Amendment 39-11463.

Applicability: Model MD-11 airplanes, as listed in Boeing Service Bulletin MD11-24-184, dated February 22, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent damage to the wire assembly terminal lugs and power feeder cables due to the accumulated effects over time from overheating of the power feeder cables on the No. 3 and 4 galley load control unit (GLCU), which could result in smoke and fire in the central accessory compartment, accomplish the following:

Restatement of Requirements of AD 99-26-03 C1

Repetitive Inspections and Replacement, If Necessary

(a) For airplanes listed in McDonnell Douglas Alert Service Bulletin MD11-24A160, Revision 01, dated November 11, 1999: Within 60 days after January 4, 2000 (the effective date of AD 99-26-03 C1, amendment 39-11463), perform a general visual inspection of the power feeder cables, terminal strip, fuseholder, and fuses of the GLCU within the No. 3 bay electrical power center to detect damage (i.e., discoloration of affected parts or loose attachments), in accordance with McDonnell Douglas Alert Service Bulletin MD11-24A160, dated August 30, 1999; or Revision 01, dated November 11, 1999.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If no damage is detected during any inspection required by this AD, repeat the general visual inspection thereafter at intervals not to exceed 600 flight hours.

(2) If any damage is detected during any inspection required by this AD, prior to further flight, replace the power feeder cables, fuseholder, and/or fuses, as applicable, in accordance with the service bulletin. Repeat the general visual inspection thereafter at intervals not to exceed 600 flight hours.

New Actions Required By This AD

Repetitive Inspections and Replacement, If Necessary

(b) For airplanes having serial numbers 547 and 554: Within 60 days after the effective date of this AD, do the actions required by paragraphs (a), (a)(1), and (a)(2) of this AD, as applicable.

Replacement

(c) Within 12 months after the effective date of this AD, replace the electrical wiring of the galley in the electrical power center in bays 1, 2, and 3 with larger gage cable assemblies, in accordance with Boeing Service Bulletin MD11-24-184, dated February 22, 2001. Accomplishment of the replacement constitutes terminating action for the repetitive inspection requirements of paragraphs (a) and (b) of this AD.

Alternative Methods of Compliance

(d)(1) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

(2) Alternative methods of compliance, approved previously in accordance with ADs 99-26-03 and 99-26-03 C1, both having amendment 39-11463, are approved as alternative methods of compliance with this AD.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with McDonnell Douglas Alert Service Bulletin MD11-24A160, dated August 30, 1999, or McDonnell Douglas Alert Service Bulletin MD11-24A160, Revision 01, dated November 11, 1999; and Boeing Service Bulletin MD11-24-184, dated February 22, 2001; as applicable.

(1) The incorporation by reference of Boeing Service Bulletin MD11-24-184, dated February 22, 2001, is approved by the Director of the Federal Register in accordance with 5 U.S.C. 552(a) and 1 CFR part 51.

(2) The incorporation by reference of McDonnell Douglas Alert Service Bulletin MD11-24A160, dated August 30, 1999; and McDonnell Douglas Alert Service Bulletin MD11-24A160, Revision 01, dated November 11, 1999; was approved previously by the Director of the Federal Register as of January 4, 2000 (64 FR 71001, December 20, 1999).

(3) Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(g) This amendment becomes effective on August 23, 2002.

Issued in Renton, Washington, on July 2, 2002.
Jeffrey E. Duven,
Acting Manager, Transport Airplane Directorate, Aircraft Certification Service.

[FR Doc. 02-17527 Filed 7-18-02; 8:45 am]

BILLING CODE 4910-13-P